FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202-523-5793 or tradeanalysis@fmc.gov).

Agreement No.: 011996-001.

Title: Gulf, Central America and Caribbean Vessel Sharing Agreement.

Parties: Compania Sud Americana de Vapores (“CSAV”) and Compania Chilena de Navegacion Interoceanica S.A. (“CCNI”).

Filing Party: Walter H. Lion, Esq.; McLaughlin & Stern, LLP; 260 Madison Ave; New York, NY 10016.

Synopsis: The amendment extends the time for providing notice of withdrawal to April 19, 2009.

Agreement No.: 012040.

Title: CSAV Group / ECSA Space Charter Agreement.

Parties: Compania Libra de Navegacao (Libra); Compania Libra de Navegacion Uruguay S.A. (CLNU); Compania Sud Americana de Vapores, S.A. (CSAV); Hanjin Shipping Co., Ltd.; Kawasaki Kaisen Kaisha, Ltd.; and Yang Ming Marine Transport Corp.

Filing Party: Walter H. Lion, Esq.; McLaughlin & Stern, LLP; 260 Madison Avenue; New York, NY 10016.

Synopsis: The agreement authorizes Libra, CLNU, and CSAV to charter space to the other parties in the trade between U.S. East Coast ports and ports in Argentina, Brazil, Paraguay, Uruguay and Venezuela.

Agreement No.: 201112-001.

Title: Lease and Operating Agreement.

Parties: Philadelphia Regional Port Authority and Kinder Morgan Liquids Terminals, LLC.

Filing Party: Paul D. Coleman, Esq.; Hoppel, Mayer & Coleman; 1050 Connecticut Ave. NW., 10th Floor; Washington, DC 20036.

Synopsis: The amendment provides for rent for the renewal period, revises provisions on dredging, and revises the amount of dockage.

Agreement No.: 201118-001.

Title: Lease and Operating Agreement.

Parties: Philadelphia Regional Port Authority and Penn Warehousing and Distribution, Inc.

Filing Party: Paul D. Coleman, Esq.; Hoppel, Mayer & Coleman; 1050 Connecticut Ave. NW., 10th Floor; Washington, DC 20036.

Synopsis: The amendment extends the lease until December 31, 2023, establishes conditions for renewal, sets a minimum number of vessel calls, establishes new fees, and make other miscellaneous changes.

Dated: May 2, 2008.
By Order of the Federal Maritime Commission.
Karen V. Gregory,
Assistant Secretary.

[FR Doc. E8-10148 Filed 5-6-08; 8:45 am]

BILLING CODE 6730-01-P